NATIONAL SCIENCE FOUNDATION

National Science Board; Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: February 15, 2011 at 8 a.m., and February 16, 2011 at 8 a.m.

PLACE: National Science Foundation, 4201 Wilson Blvd., Room 1235, Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

STATUS: Some portions open, some portions closed.

OPEN SESSIONS:

February 15, 2011

8 a.m.-9:30 a.m.

10:30 a.m.-11 a.m.

12:45 p.m.-1:15 p.m.

1:15 p.m.-2:30 p.m.

3:15 p.m.-4:15 p.m.

4:15 p.m.-5:15 p.m.

February 16, 2011

8 a.m.-8:30 a.m.

8:30 a.m.-9:15 a.m.

9:45 a.m.-10 a.m.

10 a.m.-10:45 a.m.

10:45 a.m.-11:30 a.m.

1:30 p.m.-2:30 p.m.

CLOSED SESSIONS:

February 15, 2011

9:30 a.m.-10:30 a.m.

11 a.m.-11:45 a.m.

2:30 p.m.-3:15 p.m.

February 16, 2011

9:15 a.m.-9:45 a.m.

12:45 p.m.-1 p.m.

1 p.m.-1:30 p.m.

UPDATES: Please refer to the National Science Board Web site http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

MATTERS TO BE DISCUSSED:

February 15, 2011

Plenary

Open Session: 8 a.m.-9:30 a.m., Room 1235

• Presentation on America COMPETES Reauthorization Act

• Presentation on National Research Council Study on Research Universities

Committee on Programs and Plans (CPP)

Closed Session 9:30 a.m.-10:30 a.m., Room 1235

• Committee Chairman's Remarks

• NSB Action Items: Two Science of Learning Centers

Committee on Strategy & Budget (CSB)

Open Session 10:30 a.m.-11 a.m., Room 1235

• Chairman's Remarks

• Approval of Minutes

• Approval of Data Policy Task Force Principles

• NSB Office

• NSF Performance Plan integration with the Strategic Plan

• Other Committee Business

Closed Session 11 a.m.-11:45 a.m., Room 1235

• Future NSF Budgets & Budget Implications

Task Force on Merit Review (MR)

Open Session: 12:45 p.m.-1:15 p.m., Room 1235

• Approval of Minutes

• Chairman's Remarks

• Discussion of Criteria and Next Steps

Committee on Programs and Plans (CPP) and Committee on Strategy & Budget (CSB)

Joint Open Session 1:15 p.m.-2:30 p.m., Room 1235

• Committee Chairs' Remarks

• Discussion Item: Cyberinfrastructure Planning

• Discussion Item: NSF Annual Facilities Plan

Joint Closed Session 2:30 p.m.-3:15 p.m., Room 1235

• NSF Annual Facilities Plan

CSB Subcommittee on Facilities

Open Session: 3:15 p.m.-4:15 p.m., Room 1235

• Chairman's Remarks

• Mid-Scale Instrumentation (from America COMPETES Reauthorization)

• Stewardship of Large Facilities (from America COMPETES Reauthorization)

• Plans for the May 2011 Portfolio Review

CSB Task Force on Data Policies

Open Session: 4:15 p.m.-5:15 p.m., Room 1235

• Chairman's Remarks

• Approval of Minutes

• Update on the March Workshop planning

• Update on related activities from NSF liaisons

• Closing Remarks

February 16, 2011

CPP Subcommittee on Polar Issues (SOPI)

Open Session: 8 a.m.-8:30 a.m., Room 1235

• SOPI Chairman's Remarks

• Approval of Minutes

• OPP Director's Remarks

• Report from NSB Members re: Travel to Antarctic

Committee on Audit and Oversight (A&O)

Open Session 8:30 a.m.-9:15 a.m., Room 1235

• Approval of Open Minutes

• Committee Chairman's Opening Remarks

• Inspector General's Update

• Chief Financial Officer's Update

• Human Resources Update

• Committee Chairman's Closing Remarks

Closed Session 9:15 a.m.-9:45 a.m., Room 1235

• Approval of Closed Minutes

• Committee Chair's Opening Remarks

• Procurement Activities

• “Future NSF” Update

CPP Task Force on Unsolicited Mid-Scale Research (MS)

Open Session: 9:45 a.m.-10 a.m., Room 1235

• Approval of Minutes

• Summary of January 6, 2011 Discussion with NSF Staff

• Summary of January 26, 2011 Task Force Teleconference

• Discussion of Task Force Future Activities

Committee on Education and Human Resources (CEH)

Open Session: 10 a.m.-10:45 a.m., Room 1235

• Approval of Minutes

• GAO Study on Federal Agency STEM Education Programs Update

• STEM Innovators—Current and Future Advancement: Discussion in the Context of Recent STEM Education Policy Developments

Committee on Science and Engineering Indicators (SEI)

Open Session: 10:45 a.m.-11:30 a.m., Room 1235

• Chairman's remarks

• Science and Engineering Indicators 2012 cover

• Board Chapter Review Assignments and Expert Reviewer Suggestions

• Graphic Design of the State Chapter

• SBE Review of Measures of Public Science Knowledge

• Discussion of Companion Piece Topic

• Chairman's summary

Plenary Executive

Closed Session: 12:45 p.m.-1 p.m., Room 1235

• Approval of Plenary Executive Closed Minutes, December 2010

• Approval of Honorary Award (Waterman) Recommendation

Plenary

Closed Session: 1 p.m.-1:30 p.m., Room 1235

• Approval of Plenary Closed Minutes, December 2010

• Awards and Agreements

• Closed Committee Reports

Plenary

Open Session: 1:30 p.m.-2:30 p.m., Room 1235

• Approval of Plenary Open Session Minutes, December 2010

• Chairman's Report

• Director's Report

• Open Committee Reports

Meeting Adjourns 2:30 p.m.

Daniel A. Lauretano,
Counsel to the National Science Board.

[FR Doc. 2011-2814 Filed 2-4-11; 11:15 am]

BILLING CODE 7555-01-P